DEPARTMENT OF TRANSPORTATION

Federal Aviation Administration

[Docket No. FAA-2013-0259]

Random Drug and Alcohol Testing Percentage Rates of Covered Aviation Employees for the Period January 1, 2024 to December 31, 2024; Correction

AGENCY: Federal Aviation Administration (FAA), Department of Transportation (DOT).

ACTION: Random drug and alcohol testing percentage rates of covered aviation employees for the period January 1, 2024 to December 31, 2024; correction.

SUMMARY: On December 15, 2023, the Federal Aviation Administration (FAA) published a correction to the Random Drug and Alcohol Testing Percentage Rates of Covered Aviation Employees for the Period January 1, 2024 to December 31, 2024. In that document, the FAA inadvertently provided the incorrect docket number in the heading and corrections sections. This document corrects that error.

DATES: This correction is effective December 21, 2023.

FOR FURTHER INFORMATION CONTACT: Ms. Vicky Dunne, Federal Aviation Administration, Office of Aerospace Medicine, Drug Abatement Division, Program Policy Branch; Email drugabatement@faa.gov; Telephone (202) 267-8442.

SUPPLEMENTARY INFORMATION: On December 15, 2023, the Federal Aviation Administration (FAA) published the Random Drug and Alcohol Testing Percentage Rates of Covered Aviation Employees for the Period January 1, 2024 to December 31, 2024; Correction. In the heading and corrections section of the document, the docket number appeared as “Docket Number FAA-2023-25488” instead of “Docket No. FAA-2013-0259.” This document corrects that error.

Correction

On page 87046 of the Federal Register, Vol. 88 No. 240, published December 15, 2023, in the second and third columns, the following correction is made to the second line of the Heading and thirteenth line of the Corrections section.

Docket No. FAA-2013-0259

Issued in Washington, DC.
Nancy Rodriguez Brown,
Director, Drug Abatement Division.

[FR Doc. 2023-28124 Filed 12-20-23; 8:45 am]

BILLING CODE 4910-13-P